DEPARTMENT OF THE INTERIOR

National Park Service

[N6763; NPS-WASO-NAGPRA-NPS0041528; PPWOCRADN0-PCU00RP14.R50000]

Notice of Intended Repatriation: Fine Arts Center at Colorado College, Colorado Springs, CO

AGENCY: National Park Service, Interior.

ACTION: Notice.

SUMMARY: In accordance with the Native American Graves Protection and Repatriation Act (NAGPRA), the Fine Arts Center at Colorado College intends to repatriate certain cultural items that meet the definition of objects of cultural patrimony and that have a cultural affiliation with the Indian Tribes or Native Hawaiian organizations in this notice.

DATES: Repatriation of the cultural items in this notice may occur on or after January 20, 2026.

ADDRESSES: Send additional, written requests for repatriation of the cultural items in this notice to Michael Christiano, Fine Arts Center at Colorado College, 30 W Dale Street, Colorado Springs, CO 80903, email NAGPRA@coloradocollege.edu.

SUPPLEMENTARY INFORMATION: This notice is published as part of the National Park Service's administrative responsibilities under NAGPRA. The determinations in this notice are the sole responsibility of the Fine Arts Center at Colorado College, and additional information on the determinations in this notice, including the results of consultation, can be found in the summary or related records. The National Park Service is not responsible for the determinations in this notice.

Abstract of Information Available

A total of two cultural items have been requested for repatriation. The two objects of cultural patrimony are baskets. The baskets (TM 1722 and TM 1725) originated from Kern County, California. The baskets were obtained by Mrs. E.G. Weimer, who transferred them to Alice Bemis Taylor, who donated them to the Taylor Museum (now the Fine Arts Center at Colorado College) in 1935. These cultural items are attributed to the Tejon Indian Tribe. The Fine Arts Center has no records of these cultural items having been treated by, or exposed to, any potentially hazardous substances.

Determinations

The Fine Arts Center at Colorado College has determined that:

• The two objects of cultural patrimony described in this notice have ongoing historical, traditional, or cultural importance central to the Native American group, including any constituent sub-group (such as a band, clan, lineage, ceremonial society, or other subdivision), according to the Native American traditional knowledge of an Indian Tribe or Native Hawaiian organization.

• There is a connection between the cultural items described in this notice and the Tejon Indian Tribe.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 20, 2026. If competing requests for repatriation are received, the Fine Arts Center at Colorado College must determine the most appropriate requestor prior to repatriation. Requests for joint repatriation of the cultural items are considered a single request and not competing requests. The Fine Arts Center at Colorado College is responsible for sending a copy of this notice to the Indian Tribes and Native Hawaiian organizations identified in this notice and to any other consulting parties.

Authority: Native American Graves Protection and Repatriation Act, 25 U.S.C. 3004 and the implementing regulations, 43 CFR 10.9.

Dated: December 3, 2025
Melanie O'Brien,
Manager, National NAGPRA Program.

[FR Doc. 2025-23205 Filed 12-17-25; 8:45 am]

BILLING CODE 4312-52-P